DEPARTMENT OF LABOR

Employment and Training Administration

[TA-W-63,463

Sun Chemical Company, North Haven, CT; Notice of Termination of Investigation

Pursuant to Section 221 of the Trade Act of 1974, as amended, an investigation was initiated on June 3, 2008, in response to a worker petition filed by a state workforce official on behalf of workers of Sun Chemical Company employed on-site at the North Haven, Connecticut location of Quebecor World Northeast Graphics, Inc.

The petitioning group of workers is covered by an active certification, (TA-W-63,301) which expires on May 16, 2010. Consequently, further investigation in this case would serve no purpose, and the investigation has been terminated.

Signed at Washington, DC, this 11th day of June 2008.
Richard Church,
Certifying Officer, Division of Trade Adjustment Assistance.

[FR Doc. E8-13980 Filed 6-19-08; 8:45 am]

BILLING CODE 4510-FN-P